DEPARTMENT OF HOMELAND SECURITY

Federal Emergency Management Agency

44 CFR Part 67

[Docket ID FEMA-2010-0003; Internal Agency Docket No. FEMA-B-1110]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this document is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before July 13, 2010.

ADDRESSES: The corresponding preliminary Flood Insurance Rate Map (FIRM) for the proposed BFEs for each community is available for inspection at the community's map repository. The respective addresses are listed in the table below.

You may submit comments, identified by Docket No. FEMA-B-1110, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | ‸ Elevation in feet (NGVD) + Elevation in feet (NAVD) # Depth in feet above ground ‸ Elevation in meters (MSL): Effective | ‸ Elevation in feet (NGVD) + Elevation in feet (NAVD) # Depth in feet above ground ‸ Elevation in meters (MSL): Modified | Communities affected
Sumter County, Alabama, and Incorporated Areas
Factory Creek (Backwater effects from Tombigbee River) | From the confluence with the Tombigbee River to approximately 1,600 feet upstream of County Road 21 | None | +120 | Unincorporated Areas of Sumter County.
Fenache Creek (Backwater effects from Tombigbee River) | From the confluence with the Tombigbee River to approximately 0.5 mile downstream of County Road 4 | None | +126 | Unincorporated Areas of Sumter County.
Folsum Branch (Backwater effects from Tombigbee River) | From the confluence with the Tombigbee River to approximately 500 feet upstream of Fulson Brand Road | None | +120 | Town of Gainesville.
High Run (Backwater effects from Tombigbee River) | From the confluence with the Tombigbee River to approximately 2.3 miles upstream of the confluence with the Tombigbee River | None | +103 | Unincorporated Areas of Sumter County.
Jones Creek (Backwater effects from Tombigbee River) | From the confluence with the Tombigbee River to approximately 2,100 feet upstream of County Road 20 | None | +114 | Town of Epes.
Noxubee River (Backwater effects from Tombigbee River) | From the confluence with the Tombigbee River to approximately 7.3 miles upstream of County Road 85 | None | +122 | Unincorporated Areas of Sumter County.
Sandy Creek | Approximately 1 mile downstream of Alabama Highway 28 | None | +115 | Unincorporated Areas of Sumter County.
| Approximately 1,673 feet downstream of East Park Road | None | +117
Sucarnoochee River | Approximately 1.6 mile downstream of railroad | None | +115 | Unincorporated Areas of Sumter County.
| Approximately 1.4 mile upstream of U.S. Route 11 | None | +120
Tombigbee River | Approximately 29.4 miles downstream of U.S. Route 11 | None | +95 | Town of Epes.
| Approximately 12.7 miles upstream of the Gainesville Dam | None | +130
Tombigbee River Trib 13 (Backwater effects from Tombigbee River) | From the confluence with the Tombigbee River to approximately 585 feet downstream of Port of Unnamed Road | None | +108 | Unincorporated Areas of Sumter County.
Tombigbee River Trib 16 (Backwater effects from Tombigbee River) | From the confluence with the Tombigbee River to approximately 740 feet downstream of Port of Epes Highway | None | +113 | Unincorporated Areas of Sumter County.
Tombigbee River Trib 7 (Backwater effects from Tombigbee River) | From the confluence with the Tombigbee River to approximately 102 miles downstream of Pine Top Road | None | +96 | Unincorporated Areas of Sumter County.
Tombigbee River Trib 8 (Backwater effects from Tombigbee River) | From the confluence with the Tombigbee River to approximately 0.6 mile upstream of Trails End Road | None | +101 | Unincorporated Areas of Sumter County.
Toomsuba Creek | Approximately 0.7 mile downstream of railroad | None | +148 | Unincorporated Areas of Sumter County.
| Approximately 750 feet upstream of U.S. Route 11 | None | +164
Whiterock Creek (Backwater effects from Sucarnoochee River) | From the confluence with the Sucarnoochee River to approximately 1,073 feet downstream of Arrington Street | None | +116 | Unincorporated Areas of Sumter County.
* National Geodetic Vertical Datum.
+North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Epes
Maps are available for inspection at 40 Carrol Street, Epes, AL 35464.
Town of Gainesville
Maps are available for inspection at 9380 State Street, Gainesville, AL 35464.
Unincorporated Areas of Sumter County
Maps are available for inspection at 318 Washington Street, Livingston, AL 35470.
Bureau County, Illinois, and Incorporated Areas
Illinois River | Approximately 1.38 miles downstream of I-180 | +463 | +462 | City of Spring Valley, Unincorporated Areas of Bureau County, Village of Bureau Junction, Village of De Pue.
| Approximately 2.05 miles upstream of State Highway 89 | +462 | +463
* National Geodetic Vertical Datum.
+North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Spring Valley
Maps are available for inspection at City Hall, 215 North Greenwood Street, Spring Valley, IL 61362.
Unincorporated Areas of Bureau County
Maps are available for inspection at the Bureau County Courthouse, 700 South Main Street, Princeton, IL 61356.
Village of Bureau Junction
Maps are available for inspection at the Village Hall, 101 East Nebraska Street, Bureau, IL 61315.
Village of De Pue
Maps are available for inspection at the Village Hall, 111 West 2nd Street, De Pue, IL 61322.
Rowan County, Kentucky, and Incorporated Areas
Cave Run Lake | Entire shoreline within Rowan County | None | +765 | Unincorporated Areas of Rowan County.
Ramey Creek (Backwater effects from Cave Run Lake) | From the confluence with Cave Run Lake to approximately 1,940 feet upstream of the confluence with Cave Run Lake | None | +765 | Unincorporated Areas of Rowan County.
Scott Creek (Backwater effects from Cave Run Lake) | From the confluence with Cave Run Lake to approximately 0.9 mile upstream of KY-801 | None | +765 | Unincorporated Areas of Rowan County.
Warix Run (Backwater effects from Cave Run Lake) | From the confluence with Cave Run Lake to approximately 1,720 feet upstream of the confluence with Cave Run Lake | None | +765 | Unincorporated Areas of Rowan County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Rowan County
Maps are available for inspection at 627 East Main Street, Morehead, KY 40351.
Richland Parish, Louisiana, and Incorporated Areas
Big Creek | Just upstream of Burke Road | None | +78 | Unincorporated Areas of Richland Parish.
| Approximately 1 mile upstream of Par 1158 Road | None | +84
Burns Bayou | Approximately 1,860 feet upstream of Collins Lane | None | +76 | Unincorporated Areas of Richland Parish.
| Just upstream of U.S. Route 80 | None | +79
Burns Bayou Tributary No. 1 | At the lower confluence with Burns Bayou | None | +77 | Town of Rayville, Unincorporated Areas of Richland Parish.
| At the upper confluence with Burns Bayou | None | +78
Burns Bayou Tributary No. 2 | Approximately 1,860 feet upstream of Collins Lane | None | +76 | Unincorporated Areas of Richland Parish.
| Approximately 590 feet upstream of Linda Street | None | +78
Cypress Creek | At the confluence with Big Creek | None | +79 | Unincorporated Areas of Richland Parish.
| Just upstream of Smalling Road | None | +85
Hurricane Creek | Just downstream of I-20 | None | +79 | Unincorporated Areas of Richland Parish.
| Just upstream of Fortenberry Road | None | +85
Little Creek | Just downstream of I-20 | None | +78 | Unincorporated Areas of Richland Parish.
| Just upstream of Maple Street | None | +80
Stream No. 2 | Just downstream of Farm Road | None | +78 | Town of Rayville, Unincorporated Areas of Richland Parish.
| Just upstream of Greer Road | +79 | +80
West Fork Creek | Just downstream of State Highway 183 | None | +81 | Unincorporated Areas of Richland Parish.
| Just downstream of Jaggers Lane | None | +83
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Rayville
Maps are available for inspection at the Town Hall, 109 Benedette Street, Rayville, LA 71269.
Unincorporated Areas of Richland Parish
Maps are available for inspection at 708 Julia Street, Suite B103C, Rayville, LA 71269.
Cheboygan County, Michigan, and Incorporated Areas
Black Lake | Entire shoreline | None | +616 | Township of Waverly.
Black River | Approximately 2.69 miles downstream of North Black River Road | None | +612 | Township of Aloha.
| Approximately 1.13 mile downstream of North Black River Road | None | +613
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Township of Aloha
Maps are available for inspection at 3012 North M-33, Cheboygan, MI 49721.
Township of Waverly
Maps are available for inspection at 11133 Twin School Road, Onaway, MI 49765.
Benton County, Minnesota, and Incorporated Areas
Mississippi River | Approximately 1.30 miles downstream of 125th Street | None | +1027 | City of Rice.
| Approximately 1.23 miles upstream of 125th Street | None | +1030
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Rice
Maps are available for inspection at 205 Main Street East, Rice, MN 56367.
Franklin County, North Carolina, and Incorporated Areas
Basin 10, Stream 14 | At the Franklin/Wake county boundary | +306 | +307 | Unincorporated Areas of Franklin County.
| Approximately 300 feet downstream of Bethlehem Church Road (State Route 1103) | None | +387
Bear Swamp Creek | At the confluence with the Tar River | +212 | +210 | Unincorporated Areas of Franklin County.
| Approximately 0.5 mile upstream of Dyking Road (State Route 1235) | +212 | +211
Big Branch Creek | At the confluence with Cedar Creek | +193 | +191 | Unincorporated Areas of Franklin County.
| Approximately 0.3 mile upstream of the confluence with Cedar Creek | +193 | +191
Billys Creek | At the confluence with the Tar River | +226 | +225 | Unincorporated Areas of Franklin County.
| Approximately 2.5 miles upstream of Montgomery Road | None | +272
Brandy Creek Tributary | Approximately 850 feet downstream of Fleming Road (State Route 1132) | None | +333 | Town of Youngsville, Unincorporated Areas of Franklin County.
| Approximately 1,000 feet upstream of Fleming Road (State Route 1132) | None | +352
Buffalo Creek South | At the confluence with the Tar River | +213 | +212 | Unincorporated Areas of Franklin County.
| Approximately 0.4 mile upstream of Perry's Chapel Church Road (State Route 1003) | None | +285
Cedar Creek | At the confluence with the Tar River | +193 | +191 | Unincorporated Areas of Franklin County.
| Approximately 1.2 mile upstream of Pocokomoke Road (State Route 1127) | None | +438
Cedar Creek Tributary | Approximately 400 feet upstream of the confluence with Cedar Creek | +373 | +374 | Unincorporated Areas of Franklin County.
| Approximately 0.3 mile upstream of the confluence with Cedar Creek | None | +386
Cedar Creek Tributary 3 | Approximately 0.4 mile downstream of Long Mill Road (State Route 1134) | None | +381 | Unincorporated Areas of Franklin County.
| Approximately 200 feet upstream of Long Mill Road (State Route 1134) | None | +402
Cedar Creek Tributary 3A | Approximately 700 feet upstream of the confluence with Cedar Creek Tributary 3 | +352 | +355 | Unincorporated Areas of Franklin County.
| Approximately 0.5 mile upstream of the confluence with Cedar Creek Tributary 3 | None | +397
Crooked Creek | At the confluence with the Tar River | +174 | +172 | Unincorporated Areas of Franklin County.
| At the downstream side of Cheves Road (State Route 1731) | +174 | +172
Cypress Creek | At the confluence with the Tar River | +170 | +171 | Unincorporated Areas of Franklin County.
| Approximately 1.2 mile upstream of the confluence with the Tar River | +170 | +171
Fox Creek | At the confluence with the Tar River | +203 | +200 | Town of Louisburg, Unincorporated Areas of Franklin County.
| Approximately 0.3 mile upstream of State Highway 56 | +203 | +202
Franklinton Branch | Approximately 0.3 mile upstream of the confluence with Cedar Creek | +266 | +265 | Town of Franklinton, Unincorporated Areas of Franklin County.
| Approximately 1.3 mile upstream of Lane Store Road (State Route 1118) | None | +310
Horse Creek | Approximately 230 feet upstream of Nottingham Court (State Route 1177) | None | +387 | Unincorporated Areas of Franklin County.
| Approximately 0.5 mile upstream of John Mitchell Road (State Route 1140) | None | +430
Horse Creek Tributary 1 | Approximately 250 feet upstream of Keighlely Forest Drive | None | +344 | Unincorporated Areas of Franklin County.
| Approximately 1.0 mile upstream of Holden Road (State Route 1147) | None | +401
Horse Creek Tributary 2 | Approximately 200 feet upstream of the confluence with Horse Creek | +381 | +382 | Unincorporated Areas of Franklin County.
| Approximately 0.9 mile upstream of John Mitchell Road | None | +434
Jumping Run | At the confluence with the Tar River | +195 | +192 | Unincorporated Areas of Franklin County.
| Approximately 750 feet downstream of East River Road (State Route 1600) | +195 | +194
Little River Tributary 1 | Approximately 1,350 feet upstream of the confluence with the Little River | +327 | +328 | Unincorporated Areas of Franklin County,
| Approximately 0.4 mile upstream of the confluence with the Little River | None | +335
Little River Tributary 2 | Approximately 800 feet upstream of the confluence with the Little River | +328 | +329 | Unincorporated Areas of Franklin County.
| Approximately 300 feet upstream of Williamston Ridge Drive | None | +361
Little River Tributary 3 | Approximately 450 feet downstream of Darius Pearce Road (State Route 1101) | +329 | +330 | Unincorporated Areas of Franklin County.
| Approximately 0.3 mile upstream of North Carolina Highway 98 | None | +360
Little River Tributary 3A | At the confluence with the Little River Tributary 3 | None | +338 | Unincorporated Areas of Franklin County.
| Approximately 0.4 mile upstream of the confluence with Little River Tributary 3 | None | +350
Little River Tributary 3B | At the confluence with Little River Tributary 3A | None | +338 | Unincorporated Areas of Franklin County.
| Approximately 250 feet upstream of North Carolina Highway 98 | None | +358
Little River Tributary 6 | Approximately 675 feet downstream of Allens Lane | None | +355 | Unincorporated Areas of Franklin County.
| Approximately 365 feet upstream of Allens Lane | None | +364
Little River Tributary 8 | Approximately 700 feet upstream of the confluence with the Little River | +371 | +372 | Unincorporated Areas of Franklin County.
| Approximately 600 feet upstream of Oak Grove Church Road | None | +386
Lynch Creek | At the confluence with the Tar River | +213 | +212 | Unincorporated Areas of Franklin County.
| Approximately 0.5 mile upstream of Dyking Road (State Route 1235) | +213 | +212
Middle Creek | At the confluence with the Tar River | +242 | +241 | Unincorporated Areas of Franklin County.
| Approximately 1.2 mile upstream of the confluence with the Tar River | +242 | +241
Richland Creek | Approximately 850 feet upstream of the confluence with Richland Creek Tributary 2 | +302 | +301 | Town of Youngsville, Unincorporated Areas of Franklin County.
| Approximately 0.3 mile upstream of Holden Road | None | +364
Smith Creek (Basin 6, Stream 1) | At the Franklin/Wake county boundary | None | +327 | Unincorporated Areas of Franklin County.
| Approximately 0.6 mile upstream of the Franklin/Wake county boundary | None | +353
Sycamore Creek | At the confluence with the Tar River | +200 | +198 | Unincorporated Areas of Franklin County.
| Approximately 100 feet downstream of North Carolina Highway 56 | +200 | +199
Tar River | At the Franklin/Nash county boundary | +170 | +171 | Town of Bunn, Town of Louisburg, Unincorporated Areas of Franklin County.
| At the confluence with Middle Creek | +242 | +241
Tar River Tributary 1 | At the confluence with the Tar River | +197 | +195 | Unincorporated Areas of Franklin County.
| Approximately 0.9 mile upstream of the confluence with the Tar River | +197 | +196
Taylors Branch | At the confluence with the Tar River | +234 | +237 | Town of Franklinton, Unincorporated Areas of Franklin County.
| Approximately 250 feet upstream of West Green Street | None | +311
Tooles Creek | At the confluence with Lynch Creek | +213 | +212 | Unincorporated Areas of Franklin County.
| Approximately 0.6 mile upstream of Dyking Road (State Route 1235) | +213 | +212
Wolfpen Branch | At the confluence with the Tar River | +197 | +195 | Unincorporated Areas of Franklin County.
| Approximately 0.9 mile upstream of the confluence with the Tar River | +197 | +196
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Bunn
Maps are available for inspection at the Town Hall, 601 Main Street, Bunn, NC 27508.
Town of Franklinton
Maps are available for inspection at the Franklinton Municipal Building, 7 West Mason Street, Franklinton, NC 27525.
Town of Louisburg
Maps are available for inspection at the Town Hall, 110 West Nash Street, Louisburg, NC 27549.
Town of Youngsville
Maps are available for inspection at the Town Hall, 118 North Cross Street, Youngsville, NC 27596.
Unincorporated Areas of Franklin County
Maps are available for inspection at the Franklin County Planning Office, 215 East Nash Street, Louisburg, NC 27549.
Vance County, North Carolina, and Incorporated Areas
Buffalo Creek North | At the confluence with the Tar River | +228 | +229 | Unincorporated Areas of Vance County.
| Approximately 300 feet downstream of Dick Smith Road | +228 | +229
Tabbs Creek | At the confluence with the Tar River | +233 | +236 | Unincorporated Areas of Vance County.
| Approximately 1,700 feet upstream of Egypt Mountain Road | +235 | +236
Tar River | At the Franklin/Vance county boundary | +228 | +229 | Unincorporated Areas of Vance County.
| At the confluence with Middle Creek | +242 | +241
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Vance County
Maps are available for inspection at the Vance County Planning and Development Office, 156 Church Street, Suite 003, Henderson, NC 27536.
Potter County, Pennsylvania (All Jurisdictions)
Freeman Run | Approximately 0.7 mile downstream of State Route 607 (Main Street) | None | +1311 | Township of Portage.
| Approximately 0.6 mile downstream of State Route 607 (Main Street) | None | +1316
Oswayo Creek | Approximately 1.8 mile upstream of State Route 44 | None | +1567 | Township of Clara.
| Approximately 2.2 miles upstream of State Route 44 | None | +1572
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Township of Clara
Maps are available for inspection at the Clara Township Building, 566 Clara Road, Shinglehouse, PA 16748.
Township of Portage
Maps are available for inspection at the Portage Township Hall, 23 State Street, Austin, PA 16720.
Fairfield County, South Carolina, and Incorporated Areas
McCulley Creek | Approximately 1,370 feet downstream of State Road S-20-56 | None | +350 | Town of Winnsboro, Unincorporated Areas of Fairfield County.
| Approximately 560 feet downstream of Dogwood Avenue | None | +396
Sand Creek | Approximately 1.4 mile downstream of Pumphouse Road | None | +378 | Town of Winnsboro, Unincorporated Areas of Fairfield County.
| Approximately 169 feet downstream of U.S. Route 321 | None | +522
Sand Creek Tributary 10 | At the confluence with Sand Creek | None | +429 | Unincorporated Areas of Fairfield County.
| Approximately 0.7 mile upstream of the confluence with Sand Creek | None | +489
Sand Creek Tributary 11 | At the confluence with Sand Creek | None | +449 | Town of Winnsboro.
| Approximately 1,473 feet upstream of U.S. Route 321 | None | +544
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Winnsboro
Maps are available for inspection at the Town Hall, 117 South Congress Street, Winnsboro, SC 29180.
Unincorporated Areas of Fairfield County
Maps are available for inspection at the Town Hall, 117 South Congress Street, Winnsboro, SC 29180.

(Catalog of Federal Domestic Assistance No. 97.022, “Flood Insurance.”)

Dated: March 31, 2010.
Sandra K. Knight,
Deputy Federal Insurance and Mitigation Administrator, Mitigation, Department of Homeland Security, Federal Emergency Management Agency.

[FR Doc. 2010-8459 Filed 4-13-10; 8:45 am]

BILLING CODE 9110-12-P